DEPARTMENT OF THE INTERIOR

Bureau of Land Management

[AZ-917-5101-ER-A173; AZA31074]

Notice of Availability for an Environmental Assessment for the El Paso Global Networks Telecommunications System

AGENCY: Bureau of Land Management, Interior.

ACTION: Notice of Availability of the Environmental Assessment for the El Paso Global Networks Right-of-Way Applications and Plan Amendment.

SUMMARY: The Bureau of Land Management (BLM), in accordance with the National Environmental Policy Act of 1969, as federal lead agency has prepared an Environmental Assessment (EA) for two rights-of-way (R/W) proposed by El Paso Global Networks (EPGN) for buried fiber optic telecommunications lines and associated facilities, including the construction, maintenance, operation and termination activities. One R/W runs from El Paso, Texas to Phoenix, Arizona; the second from Phoenix, Arizona to Los Angeles, California. The R/Ws cross the states of Texas, California, Arizona and New Mexico extending approximately 972 miles.

The proposed action includes an amendment to the California Desert Conservation Area (CDCA) Plan which, if approved as an exception, will allow the system to be constructed as planned along existing highways or disturbed R/Ws in Riverside and San Bernadino Counties instead of within CDCA designated utility corridors. Both R/Ws would include a 25-foot wide temporary construction and a 10-foot wide permanent R/W.

Copies of the EA are available for public review at BLM offices in: Las Cruces, New Mexico; Safford, Tucson, Phoenix, Yuma and Lake Havasu, Arizona; and Palm Springs, Riverside, Needles and Barstow, California. Reading copies may be downloaded from the Arizona BLM website http://www.az.blm.gov.

DATES: Written comments on the EA and proposed plan amendment must be submitted or postmarked no later than July 23, 2001.

ADDRESSES: Written comments should be addressed to Shela McFarlin, Project Manager, BLM Arizona State Office (AZ917), 222 North Central Avenue, Phoenix, AZ 85004.

FOR FURTHER INFORMATION CONTACT: Shela McFarlin, at the above address, or by phone at (602) 417-9568, by fax at (602) 417-9400, or at e-mail Shela_McFarlin@blm.gov.

SUPPLEMENTARY INFORMATION: Both R/W applications include measures to avoid, minimize, or mitigate impacts on the environment as specified through a plan of development which includes monitoring, reclamation and other construction designs and stipulations. The EA analyzes a no-action (no R/W and no plan amendment) along with the R/Ws proposed by EPGN. For the CDCA, an additional alternative (Modified Proposed Project Corridors K and S) and the associated plan amendment is analyzed utilizing existing information for comparison with the proposed action.

The fiber optic telecommunication project entails the construction and reclamation activities for an eight-duct conduit system and associated facilities and access including regeneration or optical amplification stations approximately every 50 miles, buried splice boxes placed at 20,000 foot intervals, manhole/handhold accesses placed every 3,000 to 5,000 feet, cable marker poles every 500 feet, and one 3.5 mile power line. The project, as designated for construction, operation, maintenance and termination activities, should contribute minimal to no additional impacts to the environment and would operate mainly within previously disturbed and routinely maintained road rights of way. Additional environmental monitoring, pre-work surveys, and data recovery for cultural resource sites would be stipulated in the R/W grants.

The CDCA portion of this project proposed as an exception to the CDCA Plan—as a plan amendment for this single use only—begins at the Point of Presence (POP) in Blythe, California, then follow the Midland Road to the Rice POP, then follow highway 60 to the POP at Twenty-Nine Palms, then to the POP at Victorville.

Dated: May 31, 2001.
William Ruddick,
Acting Field Director, Native American Minerals/Land Exchange Teams.

[FR Doc. 01-15701 Filed 6-21-01; 8:45 am]

BILLING CODE 4310-32-M